FEDERAL FINANCIAL INSTITUTIONS EXAMINATION COUNCIL

[Docket No. AS23-19]

Appraisal Subcommittee; Notice of Meeting; Cancellation

AGENCY: Appraisal Subcommittee of the Federal Financial Institutions Examination Council.

ACTION: Notice of meeting; cancellation.

The Open Meeting, which was published in accordance with Section 1104(b) of Title XI of the Financial Institutions Reform, Recovery, and Enforcement Act of 1989, as amended, at 88 FR 77320, November 9, 2023 and scheduled for Wednesday, November 15, 2023 at 10:00 a.m. ET, has been cancelled.

James R. Park,
Executive Director.

[FR Doc. 2023-25281 Filed 11-15-23; 8:45 am]

BILLING CODE 6700-01-P